DEPARTMENT OF LABOR

Mine Safety and Health Administration

Petitions for Modification

The following parties have filed petitions to modify the application of 30 CFR 75.1714-4(a), (b), (c), (d), and (e) (Additional Self-Contained Self-Rescuers), for their anthracite underground coal mines, under section 101(c) of the Federal Mine Safety and Health Act of 1977 and 30 CFR Part 44:

(1) Orchard Coal Company, Orchard Slope Mine, 214 Vaux Road, Tremont Pennsylvania 17981 (MSHA I.D. No. 36-08346), located in Schuylkill County, Pennsylvania.

[Docket No. M-2006-031-C]

(2) R S & W Coal Company, Inc., R S & W Slope Mine; 207 Creek Road, Klingerstown, Pennsylvania 17941 (MSHA I.D. No. 36-01818), located in Schuylkill County, Pennsylvania.

[Docket No. M-2006-032-C]

(3) S & M Coal Company, Buck Mountain Slope Mine, 1744 E. Grand Avenue, Tower City, Pennsylvania 17980 (MSHA I.D. No. 36-02022), located in Dauphin County, Pennsylvania.

[Docket No. M-2006-040-C]

(4) FKZ Coal Company, No. 1 Slope Mine, P.O. Box 62, Locust Gap, Pennsylvania 17840 (MSHA I.D. No. 36-08637), located in Northumberland County, Pennsylvania.

[Docket No. M-2006-048-C]

(5) Tito Coal Company, No. 2 Slope Mine, 118 Fairview Lane, Williamstown, Pennsylvania 17098 (MSHA I.D. No. 36-06815), located in Northumberland County, Pennsylvania.

[Docket No. M-2006-052-C]

(6) D & D Coal Company, Primrose Slope Mine, D & D Coal Company, 409 W. Centre Street, Donaldson, Pennsylvania 17981 (MSHA I.D. No. 36-08341), located in Schuylkill County, Pennsylvania.

[Docket No. M-2006-055-C]

These petitioners request a modification of the existing standard to eliminate the requirement for providing an additional self-contained self-rescue (SCSR) device, and to eliminate the requirement for providing additional SCSRs on mantrips or mobile equipment and in alternate and primary escapeways. The petitioners state that:

(i) An SCSR has never been used in an anthracite mine and no statistical data exists to support the need to use an SCSR;

(ii) The potential hazard which would require wearing an SCSR and traveling the escapeway does not exist;

(iii) There is no hazard scenario where traveling the escapeway with an SCSR would be likely; and

(iv) The travel time on foot from the working face through the primary escapeway is less than fifteen minutes. The petitioners further state that, historically, fires in anthracite mines have not been a significant hazard, as a result of the low volatile matter of the coal, which is reflected in numerous granted petitions for modification relating to firefighting.

The petitioners propose to have each miner wear an SCSR correctly for one hour to give the full affect of proper usage when actually wearing the SCSR, because the petitioners believe that to train the miner with one SCSR is a safer act than to have multiple SCSRs without proper training and the miner will know how to use the SCSR in the event of an actual emergency. The petitioners also propose to have hand-held multi-gas detectors located at each working face and have the SCSR stored on the locomotive for the locomotive operator.

The petitioner asserts that the proposed alternative method for use of the SCSR would in no way provide less than the same measure of protection than that afforded the miners under the existing standard.

Request for Comments

Persons interested in these petitions are encouraged to submit comments via E-mail to Standards-Petitions@dol.gov. Include “petitions for modification” in the subject line of the email. Comments can also be submitted by fax, regular mail, or hand-delivery. If faxing your comments, include “petitions for modification” on the subject line of the fax. Comments by regular mail or hand-delivery should be submitted to the Mine Safety and Health Administration, Office of Standards, Regulations, and Variances, 1100 Wilson Boulevard, Room 2350, Arlington, Virginia 22209. If hand-delivered, you are required to stop by the 21st floor to check in with the receptionist. All comments must be postmarked or received by the Office of Standards, Regulations, and Variances on or before November 6, 2006. Copies of the petitions are available for inspection at that address.

Dated at Arlington, Virginia, this 29th day of September 2006.
Cherie A. Hutchison,
Acting Director, Office of Standards, Regulations, and Variances.

[FR Doc. E6-16489 Filed 10-4-06; 8:45 am]

BILLING CODE 4510-43-P